DEPARTMENT OF HOMELAND SECURITY

Coast Guard

33 CFR Part 165

[CGD7-04-153]

RIN 1625-AA11

Regulated Navigation Area Removal; Brunswick, GA, Turtle River, in the Vicinity of the Sidney Lanier Bridge

AGENCY: Coast Guard, DHS.

ACTION: Final rule.

SUMMARY: The Coast Guard is removing the regulated navigation area (RNA) in Brunswick, Georgia in the Turtle River in the vicinity of the Sidney Lanier Bridge. Due to the construction of the new Sidney Lanier Bridge and the removal of the old bridge structures, the maneuvers required by the RNA are no longer necessary to prevent allisions with the old bridge.

DATES: This rule is effective March 9, 2005.

ADDRESSES: You may mail comments and related material to USCG Marine Safety Office Savannah, 100 W. Oglethorpe Ave., Suite 1017, JGL Federal Building, Savannah, GA 31401. USCG Marine Safety Office Savannah maintains the public docket for this rulemaking. Comments and material received from the public, as well as documents indicated in this preamble as being available in the docket, will become part of this docket and will be available for inspection or copying at USCG Marine Safety Office Savannah between 8 a.m. and 4 p.m., Monday through Friday, except Federal holidays.

FOR FURTHER INFORMATION CONTACT: LT Aloysious Zealy, Planning Officer, MSO Savannah at 912-652-4353 ext. 240.

SUPPLEMENTARY INFORMATION:

Regulatory Information

We did not publish a notice of proposed rulemaking (NPRM) for this regulation. Under 5 U.S.C. 553(b)(B) and (d)(3), the Coast Guard finds that good cause exists for not publishing a NPRM and for making this regulation effective less than 30 days after publication in the Federal Register. Due to the construction of the new Sidney Lanier Bridge, the widening of the channel, and the removal of the old bridge structure, the maneuver required by the current RNA is no longer necessary. Because the old Sidney Lanier Bridge no longer exists, an NPRM to remove the RNA is unnecessary. Similarly, it is unnecessary to delay the effective date of the regulation beyond the date of publication on the Federal Register.

Background and Purpose

The Regulated Navigation Area at 33 CFR 165.735 Brunswick, Georgia, Turtle River, Vicinity of Sidney Lanier Bridge was introduced in 1987 to improve navigational safety after the old Sidney Lanier Bridge had suffered allisions in 1972 and 1987. The close proximity of the bridge to the turn from the East River onto the Turtle River, in conjunction with the heavy current and narrow channel width, provided insufficient time for many vessels departing the East River, outbound for sea under the old Sydney Lanier Bridge, to properly shape up for safe transit. The RNA requires every vessel over 500 GRT departing the Port of Brunswick for sea to depart only from the Turtle River, except during flood tide. Vessels over 500 GRT departing for sea southbound down the East River negotiate a 129§ starboard turn, westward onto the Turtle River, transit up river to the turning basin to negotiate a 180° turn, and then transit down bound on the Turtle River through what was previously a 200′ wide restricted channel.

Due to the construction of the new Sidney Lanier Bridge and widening of the channel, the maneuver required by the current RNA is no longer necessary. The current navigation requirements of 33 CFR 165.735 pose a greater risk of a vessel casualty due to the now unnecessary complex maneuvering. The rule removes the maneuvers required by the current RNA and will reduce the transit time of vessels bound for sea from the East River. Due to the removal of the old bridge structures, no other navigational or safety requirements are necessary.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This rule removes navigation restrictions currently imposed on mariners and make transit easier and quicker. The anticipated beneficial result forms the basis for the determination that the economic impact will be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The current Regulated Navigation Area imposes restrictions on vessels transiting the area. The mariners who pilot the affected vessels have requested this rule. The impact of this rule will be a beneficial one as it removes restrictions, improves safety and enhances navigability.

Assistance for Small Entities

Under section 213(a) of the Small Business Regulatory Enforcement Fairness Act of 1996 (Public Law 104-121), we want to assist small entities in understanding this rule. If the rule affects your small business, organization, or governmental jurisdiction and you have questions concerning its provisions or options for compliance, please contact LT Aloysious Zealy, Planning Officer, MSO Savannah at 912-652-4353 ext. 240. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency?s responsiveness to small business. If you wish to comment on actions by employees of the Coast Guard, call 1-888-REG-FAIR (1-888-734-3247).

Collection of Information

This rule calls for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. Paragraph (34)(g) applies because this rule disestablishes a Regulated Navigation Area, an action expressly recognized by paragraph (34)(g).

Under figure 2-1, paragraph (34)(g), of the Instruction, an “Environmental Analysis Check List” and a “Categorical Exclusion Determination” are not required for this rule.

List of Subjects in 33 CFR Part 165

Harbors, Marine safety, Navigation (water), recordkeeping requirements, Security measures, Waterways.

For the reasons discussed in the preamble, the Coast Guard amends 33 CFR Part 165 as follows:

PART 165—REGULATED NAVIGATION AREAS AND LIMITED ACCESS AREAS

1. The authority for part 165 continues to read as follows:

Authority: 33 U.S.C. 1226, 1231; 46 U.S.C. Chapter 701; 50 U.S.C. 191, 195; 33 CFR 1.01-1(g), 6.04-1, 6.04-6, and 160.5; Pub. L. 107-295, 116 Stat. 2064; Department of Homeland Security Delegation No. 0170.1.

§ 165.735 [Removed]

2. Section 165.735 is removed.

Dated: January 21, 2005.
D. Brian Peterman,
Rear Admiral, U.S. Coast Guard, Commander, Seventh Coast Guard District.

[FR Doc. 05-2237 Filed 2-4-05; 8:45 am]

BILLING CODE 4910-15-P